NUCLEAR REGULATORY COMMISSION

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on May 8, 2008.

1. Type of submission, new, revision, or extension: Extension.

2. The title of the information collection: 10 CFR Part 31, General Domestic Licenses for Byproduct Material.

3. Current OMB approval number: 3150-0016.

4. The form number if applicable: N/A.

5. How often the collection is required: Reports are submitted as events occur. General license registration requests may be submitted at any time. Changes to the information on the registration may be submitted as they occur.

6. Who will be required or asked to report: Persons receiving, possessing, using, or transferring devices containing byproduct material.

7. An estimate of the number of annual responses: 35,663 (1,073 NRC responses + 3,900 NRC recordkeepers + 11,290 Agreement State responses + 19,400 Agreement State recordkeepers).

8. The estimated number of annual respondents: Approximately 3,900 NRC general licensees and 19,400 Agreement State general licensees.

9. An estimate of the total number of hours needed annually to complete the requirement or request: 10,868 hours (1,460 hours for NRC licensees [485 hours reporting and 975 hours recordkeeping] and 9,408 hours for Agreement State licensees [4,558 hours reporting and 4,850 hours recordkeeping]).

10. Abstract: 10 CFR Part 31 establishes general licenses for the possession and use of byproduct material in certain devices. General licensees are required to keep testing records and submit event reports identified in Part 31, which assist NRC in determining with reasonable assurance that devices are operated safely and without radiological hazard to users or the public.

A copy of the final supporting statement may be viewed free of charge at the NRC Public Document Room, One White Flint North, 11555 Rockville Pike, Room O-1 F21, Rockville, Maryland 20852. OMB clearance requests are available at the NRC worldwide Web site: http://www.nrc.gov/public-involve/doc-comment/omb/index.html. The document will be available on the NRC home page site for 60 days after the signature date of this notice.

Comments and questions should be directed to the OMB reviewer listed below by September 2, 2008. Comments received after this date will be considered if it is practical to do so, but assurance of consideration cannot be given to comments received after this date.

Nathan J. Frey, Office of Information and Regulatory Affairs (3150-0016), NEOB-10202, Office of Management and Budget, Washington, DC 20503.

Comments can also be e-mailed to Nathan_J._Frey@omb.eop.gov or submitted by telephone at (202) 395-7345.

The NRC Clearance Officer is Russell Nichols, (301) 415-6874.

Dated at Rockville, Maryland, this 24th day of July, 2008.
Tremaine Donnell,
Acting NRC Clearance Officer, Office of Information Services.

[FR Doc. E8-17541 Filed 7-30-08; 8:45 am]

BILLING CODE 7590-01-P